DEPARTMENT OF TRANSPORTATION

Federal Aviation Administration

14 CFR Part 39

[Docket No. 2003-NM-204-AD]

RIN 2120-AA64

Airworthiness Directives; Gulfstream Aerospace LP Model Astra SPX and 1125 Westwind Astra Series Airplanes; and Model Gulfstream 100 Airplanes

AGENCY: Federal Aviation Administration, DOT.

ACTION: Notice of proposed rulemaking (NPRM).

SUMMARY: This document proposes the adoption of a new airworthiness directive (AD) that is applicable to certain Gulfstream Aerospace LP Model Astra SPX, and 1125 Westwind Astra series airplanes; and Model Gulfstream 100 airplanes. This proposal would require a one-time inspection of the outboard doors of the main landing gear (MLG) for evidence of impact with the surrounding structure, and for damage to the door seals and seal channels; measurements for adequate gaps and clearances; and related investigative and corrective actions, if necessary. This action is necessary to prevent damage to or breakage of the MLG outboard doors, which could result in the loss of a door during flight, and consequent damage to the airplane and injury to people or damage to property on the ground. This action is intended to address the identified unsafe condition.

DATES: Comments must be received by June 2, 2004.

ADDRESSES: Submit comments in triplicate to the Federal Aviation Administration (FAA), Transport Airplane Directorate, ANM-114, Attention: Rules Docket No. 2003-NM-204-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-204-AD” in the subject line and need not be submitted in triplicate. Comments sent via the Internet as attached electronic files must be formatted in Microsoft Word 97 or 2000 or ASCII text.

The service information referenced in the proposed rule may be obtained from Gulfstream Aerospace Corporation, P.O. Box 2206, Mail Station D25, Savannah, Georgia 31402. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-204-AD.” The postcard will be date stamped and returned to the commenter.

Availability of NPRMs

Any person may obtain a copy of this NPRM by submitting a request to the FAA, Transport Airplane Directorate, ANM-114, Attention: Rules Docket No. 2003-NM-204-AD, 1601 Lind Avenue, SW., Renton, Washington 98055-4056.

Discussion

The Civil Aviation Administration of Israel (CAAI), which is the airworthiness authority for Israel, notified the FAA that an unsafe condition may exist on certain Gulfstream Aerospace LP Model Astra SPX, and 1125 Westwind Astra series airplanes; and Model Gulfstream 100 airplanes. The CAAI advises that at least six cases of damage and/or breakage of the outboard doors of the main landing gear (MLG) have been reported, which were caused by insufficient clearance or interference with the surrounding structure. This condition, if not corrected, could result in damage to or breakage of the MLG outboard doors, which could cause the loss of a door during flight, and consequent damage to the airplane and injury to people or damage to property on the ground.

Explanation of Relevant Service Information

Gulfstream Aerospace LP has issued Service Bulletin 100-32-223, Revision 2, dated June 2, 2003, which describes procedures for accomplishing the following actions on the left and right MLG outboard doors:

• An inspection for evidence of impact with the surrounding structure (including evidence of the edge of the door hitting the wing or wing fairing when the door closes; and damage to the door seals and door seal channels, which includes tears, scratches, and rub marks).

• Measurement of the gap clearance of the forward and aft edges of the door.

• Measurement of the clearance between the hinge taper fillers and the door opening in the wing lower skin.

For doors on which evidence of impact with the surrounding structure is found, the service bulletin describes procedures for related investigative action, which includes doing an inspection for delamination or cracking at the door hinge area and at locations on the door where it hit the wing fairing. If any cracking or delamination is found, the service bulletin recommends contacting Gulfstream for evaluation of the damage and for corrective actions.

If any damage is found to the door seals or seal channels, or if any gap or clearance measurement is incorrect, the service bulletin describes procedures for corrective actions. The corrective actions include replacing damaged seals and/or seal channels; repairing cracks and/or delamination; shifting the door forward; and trimming the wheel well fairing, the hinge taper fillers, and/or the wing fairing; as applicable.

The CAAI classified this service bulletin as mandatory and issued Israeli airworthiness directive 32-03-03-04, R3, dated June 24, 2003, to ensure the continued airworthiness of these airplanes in Israel.

FAA's Conclusions

These airplane models are manufactured in Israel and are type certificated for operation in the United States under the provisions of section 21.29 of the Federal Aviation Regulations (14 CFR 21.29) and the applicable bilateral airworthiness agreement. Pursuant to this bilateral airworthiness agreement, the CAAI has kept us informed of the situation described above. We have examined the findings of the CAAI, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Difference Between the Proposed Rule and the Israeli Airworthiness Directive

Although Israeli airworthiness directive 32-03-03-04, Revision 3, requires compliance with Part A and Part B of the Accomplishment Instructions of Gulfstream Service Bulletin 1125-32-223, Revision 1, this proposed AD would require compliance only with Part A of Revision 2 of the service bulletin. Part B contains actions for airplanes that have incorporated the original release of the service bulletin. Part A includes all of the actions from the original release as well as the actions in Part B of Revisions 1 and 2 so that all airplanes, even those that have not incorporated the original release, would be compliant at the same level. We did not previously require compliance with either the original release or with Release 1 of the service bulletin; consequently, we would require compliance only with Part A of Revision 2.

Differences Between Proposed Rule and the Service Bulletin

Although the service bulletin specifies that operators may contact the manufacturer for disposition of certain repair conditions, this proposal would require operators to repair those conditions per a method approved by either the FAA or the CAAI (or its delegated agent). In light of the type of repair that would be required to address the unsafe condition, and consistent with existing bilateral airworthiness agreements, we have determined that, for this proposed AD, a repair approved by either the FAA or the CAAI would be acceptable for compliance with this proposed AD.

The service bulletin describes procedures for inspecting for delamination or cracking, but does not define the type of inspection. This proposed AD defines the inspection as a “general visual inspection.” A definition of this inspection is included in Note 1 of this proposed AD.

Although the referenced service bulletin describes procedures for completion and submission of a service reply card, this proposed AD would not require that action.

Cost Impact

The FAA estimates that 125 airplanes of U.S. registry would be affected by this proposed AD, that it would take approximately 16 work hours per airplane to accomplish the proposed actions, and that the average labor rate is $65 per work hour. Based on these figures, the cost impact of the proposed AD on U.S. operators is estimated to be $130,000, or $1,040 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Gulfstream Aerospace LP (Formerly Israel Aircraft Industries, Ltd.): Docket 2003-NM-204-AD.

Applicability: Gulfstream Aerospace LP Model Astra SPX and Westwind Astra 1125 series airplanes; and Model Gulfstream 100 airplanes; as listed in Gulfstream Service Bulletin 1125-32-223, Revision 2, dated June 2, 2003; certificated in any category.

Compliance: Required as indicated, unless accomplished previously.

To prevent damage to or breakage of the main landing gear (MLG) outboard doors, which could result in the loss of a door during flight, and consequent damage to the airplane and injury to people or damage to property on the ground, accomplish the following:

Inspections and Measurements

(a) Except as provided by paragraph (b) of this AD: Within 250 flight hours after the effective date of this AD, do general visual inspections of the MLG outboard doors for evidence of impact with the surrounding structure, measure door gap clearances, and do any related investigative and corrective actions, as applicable, by accomplishing all of the actions per Part A of the Accomplishment Instructions of Gulfstream Service Bulletin 100-32-223, Revision 2, dated June 2, 2003. Do the applicable related investigative and corrective actions prior to further flight following the inspections.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Repair of Cracks or Delamination, if Necessary

(b) If any evidence of cracking or delamination is found on any MLG door during the inspection for delamination or cracking required by paragraph (a) of this AD: Before further flight, repair in accordance with a method approved by either the Manager, International Branch, ANM-116, FAA, Transport Airplane Directorate; or the Civil Aviation Administration of Israel (CAAI) (or its delegated agent).

No Reply Requirement

(c) Although the service bulletin describes procedures for completion and submission of a service reply card, this AD would not require those actions.

Actions Accomplished per a Previous Release of the Service Bulletin

(d) Actions accomplished before the effective date of this AD per Gulfstream Service Bulletin 100-32-223, Revision 1, dated May 22, 2003, are considered acceptable for compliance with the corresponding actions specified in paragraph (a) of this AD.

Alternative Methods of Compliance

(e) In accordance with 14 CFR 39.19, the Manager, International Branch, ANM-116, is authorized to approve alternative methods of compliance for this AD.

Note 2: The subject of this AD is addressed in Israeli airworthiness directive 32-03-03-04 R3, dated June 24, 2003.

Issued in Renton, Washington, on April 21, 2004.
Kalene C. Yanamura,
Acting Manager, Transport Airplane Directorate, Aircraft Certification Service.

[FR Doc. 04-9901 Filed 4-30-04; 8:45 am]

BILLING CODE 4910-13-P